ENVIRONMENTAL PROTECTION AGENCY

40 CFR Parts 239 and 258

[EPA-R07-RCRA-2006-0878; FRL-8242-6]

Adequacy of Nebraska Municipal Solid Waste Landfill Program

Correction

In rule document E6-19388 beginning on page 66686 in the issue of Thursday, November 16, 2006, make the following correction:

On page 66686, in the third column, under the DATES heading, in the fourth line, “January 16, 2007” should read “December 18, 2006”.

[FR Doc. Z6-19388 Filed 12-7-06; 8:45 am]

BILLING CODE 1505-01-D

DEPARTMENT OF THE TREASURY

Internal Revenue Service

26 CFR Part 1

[REG-141901-05]

RIN 1545-BE92

Exhanges of Property for an Annuity

Correction

In proposed rule document E6-17301 beginning on page 61441 in the issue of Wednesday, October 18, 2006, make the following correction:

§ 1.1001-1 [Corrected]

On page 61445, in the first column, in § 1.1001-1(J)(2)(ii), in the next to last line, “April 18, 2006” should read “April 18, 2007.”

[FR Doc. Z6-17301 Filed 12-7-06; 8:45 am]

BILLING CODE 1505-01-D